DEPARTMENT OF TRANSPORTATION

Federal Aviation Administration

14 CFR Part 71

[Airspace Docket No. 2001-ASW-13]

Establishment of Class E Airspace; Angel Fire Airport, Angel Fire, NM

AGENCY: Federal Aviation Administration (FAA), DOT.

ACTION: Final rule.

SUMMARY: This action establishes Class E airspace at Angel Fire Airport, Angel Fire, NM. The development of an area navigation (RNAV) global positioning system (GPS) standard instrument approach procedure (SIAP), to Angel Fire Airport, Angel Fire, NM, has made this rule necessary. The intended effect of this proposal is to provide adequate controlled airspace for aircraft operating in the vicinity of Angel Fire Airport, Angel Fire, NM.

EFFECTIVE DATE: 0901 UTC, May 15, 2003.

FOR FURTHER INFORMATION CONTACT: Joseph R. Yadouga, Airspace Branch, Air Traffic Division, Southwest Region, Federal Aviation Administration, Fort Worth, TX 76193-0520, telephone: 817-222-5597.

SUPPLEMENTARY INFORMATION:

History

On August 29, 2001, a proposal to amend 14 CFR Part 71 to establish Class E airspace at Angel Fire Airport, Angel Fire, NM, was published in the Federal Register (66 FR 45660). The proposal was to establish Class E airspace at Angel Fire Airport, Angel Fire, NM. The development of a RNAV GPS SIAP to Angel Fire Airport, Angel Fire, NM, has made this rule necessary. The intended effect of this proposal is to provide adequate controlled airspace for aircraft operating in the vicinity of Angel Fire Airport, Angel Fire, NM.

Interested parties were invited to participate in this rulemaking proceeding by submitting written comments on the proposal to the FAA. No comments to the proposal were received. The rule is adopted as proposed, with the exception of minor editorial changes.

The coordinates for this airspace docket are based on North American Datum 83. Designated Class E airspace areas are published in paragraph 6005 of FAA Order 7400.9K, dated August 31, 2002, and effective September 16, 2002, which is incorporated by reference in 14 CFR 71.1 The Class E airspace designations listed in this document will be published subsequently in the order.

The Rule

This amendment to 14 CFR Part 71 establishes airspace extending upward from 700 feet above the surface within a 7.5-mile radius of Angel Fire Airport and within 2 miles either side of the 005° bearing from the airport extending from the 7.5-mile radius to 11.1 miles north of the airport.

The regulations adopted herein will not have substantial direct effects on the States, on the relationship between the national government and the States, or on the distribution of power and responsibilities among the various levels of government. Therefore, it is determined that this final rule will not have federalism implications under Executive Order 13132.

Further, the FAA has determined that this regulation only involves an established body of technical regulations that require frequent and routine amendments to keep them operationally current. It, therefore, (1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule will not have a significant economic impact on a substantial number of small entities under the criteria of the Regulatory Flexibility Act.

List of Subjects in 14 CFR Part 71

Airspace, Incorporation by reference, Navigation (air).

Adoption of the Amendment

In consideration of the foregoing, the Federal Aviation Administration amends 14 CFR Part 71 as follows:

PART 71—DESIGNATION OF CLASS A, CLASS B, CLASS C, CLASS D, AND CLASS E AIRSPACE AREAS; AIRWAYS; ROUTES; AND REPORTING POINTS

1. The authority citation for 14 CFR Part 71 continues to read as follows:

Authority: 49 U.S.C. 106(g), 40103, 40113, 40120; E.O. 10854; 24 FR 9565, 3 CFR, 1959-1963 Comp., p. 389.

§ 71.1 [Amended]

2. The incorporation by reference in 14 CFR 71.1 of the Federal Aviation Administration Order 7400.9K, Airspace Designations and Reporting Points, dated August 31, 2002, and effective September 16, 2002, is amended as follows:

Paragraph 6005 Class E airspace areas extending upward from 700 feet or more above the surface of the earth

* * * * *

ASW NM E5 Angel Fire Airport, Angel Fire, NM [New]

Angel Fire Airport, NM

(Lat. 36°25′21″ N., long. 105°17′21″ W.)

That airspace extending upward from 700 feet above the surface within a 7.5-mile radius of Angel Fire Airport and within 2 miles either side of the 005° bearing from the airport extending from the 7.5-mile radius to 11.1 miles north of the airport.

* * * * *

Issued in Fort Worth, TX, on April 7, 2003.
Robert N. Stevens,
Acting Manager, Air Traffic Division, Southwest Region.

[FR Doc. 03-9177 Filed 4-14-03; 8:45 am]

BILLING CODE 4910-13-M